MILITARY COMPENSATION AND RETIREMENT MODERNIZATION COMMISSION

Solicitation of Written Comments by the Military Compensation and Retirement Modernization Commission

AGENCY: Military Compensation and Retirement Modernization Commission.

ACTION: Notice seeking comments.

SUMMARY: The Military Compensation and Retirement Modernization Commission (MCRMC) was established by the National Defense Authorization Act FY 2013. Pursuant to the Act, the Commission is seeking written comments from the general public and interested parties on measures to modernize the military compensation and retirement systems.

DATES: Pursuant to the Act, the Commission published a notice seeking comments on October 1, 2013. The comment period closed November 1, 2013. By this notice, the Commission is reopening the period for public comment until further notice.

ADDRESSES: Electronic responses are preferred and may be addressed to www.mcrmc.gov. Written responses should be addressed to Military Compensation and Retirement Modernization Commission, P.O. Box 13170, Arlington VA 22209. Email responses may be addressed to response@mcrmc.gov.

FOR FURTHER INFORMATION CONTACT: Christopher Nuneviller, Associate Director, Military Compensation and Retirement Modernization Commission, P.O. Box 13170, Arlington, VA 22209, telephone 703-692-2080, fax 703-697-8330, email christopher.nuneviller@mcrmc.gov.

SUPPLEMENTARY INFORMATION: The Military Compensation and Retirement Modernization Commission (MCRMC) was established by the National Defense Authorization Act FY 2013, Public Law 112-239, 126 Stat. 1787 (2013). The Commission is required to seek written comment from the general public and interested parties, to hold public hearings and to transmit to the President a report containing the findings and conclusions of the Commission together with legislative language to implement its recommendations.

Under the Act, the Commission will make its recommendations only after it examines all laws, policies and practices of the Federal Government that result in any direct payment of authorized or appropriated funds to current and former members (veteran and retired) of the uniformed services, including the reserve components of those services, as well as the spouses, family members, children, survivors, and other persons authorized to receive such payments as a result of their connection to the members of these uniformed services. See § 671(b)(1)(A).

The Commission will also examine all laws, policies, and practices of the Federal Government that result in any expenditure of authorized or appropriated funds to support the persons named in § 671(b)(1)(A) and their quality of life, including:

• Health, disability, survivor, education, and dependent support programs of the Department of Defense and the Department of Veterans Affairs, including outlays from the various Federal trust funds supporting those programs;

• Department of Education impact aid;

• Support or funding provided to States, territories, colleges and universities;

• Department of Defense morale, recreation, and welfare programs, the resale programs (military exchanges and commissaries), and dependent school systems;

• The tax treatment of military compensation and benefits; and military family housing. See § 671 (b)(1)(B).

In addition, the Act allows the Commission to examine such other matters as it considers appropriate. See § 671 (b)(1)(C).

Since October 1, 2013, the Commission has been taking comments from the public on measures to modernize the military compensation and retirement systems. Pursuant to the Act the comment period closed November 1, 2013. By this notice, the Commission reopens for public comment. It is vitally important to the Commission that interested members of the public forward comments regarding the pay, retirement, health benefits and quality of life programs of the Uniformed Services to the Commission so they can be read, considered and possibly incorporated into the Commission's final report. The comment period will remain open until further notice.

It is the policy of the MCRMC to include all comments it receives in the public docket without change and to make them available on its Web site including any personal information provided unless comments include information claimed and identified as confidential business information (CBI) or other information whose disclosure is restricted by statute.

Christopher Nuneviller,
Associate Director, Administration and Operations.

[FR Doc. 2013-26951 Filed 11-8-13; 8:45 am]

BILLING CODE P